DEPARTMENT OF COMMERCE

National Oceanic and Atmospheric Administration

[Docket No. 030409080-3080-01; I.D. 031103D]

RIN 0648-ZB41

Financial Assistance for North Atlantic Right Whale Research Programs Through A Competitive Grants Program

AGENCY: National Marine Fisheries Service (NMFS), National Oceanic and Atmospheric Administration (NOAA), U.S. Department of Commerce (DOC).

ACTION: Notice of solicitation for applications.

SUMMARY: The National Marine Fisheries Service (NMFS)(hereinafter “we” or “us”) issues this document to solicit applications for Federal assistance under the North Atlantic Right Whale Grant Program (RWGP). This document describes how to submit applications for funding in FY 2003 under the Program and how we will determine which applications will be funded. Under the RWGP, we will provide financial assistance to eligible researchers working within waters inhabited by North Atlantic right whales and submitting applications pertaining only to this species. Applications will be reviewed for eligibility, technical merit, and consistency with the RWGP's goals and regional funding priorities. Final selection will be based on results of a peer review process (described below), as well as other restrictions based on appropriations language.

DATES: The application package must be postmarked by 5 p.m. (local time)June 16, 2003. The package must include: (1) one signed original of the entire application and all required forms, and (2) two signed copies of the entire application and all required forms (including supporting documentation). The applicant may also voluntarily submit an electronic copy (on CD or diskette in Microsoft Word v. 97 or earlier or WordPerfect v. 9 or lower) of the narrative project description.

ADDRESSES: All application packages should be sent to NOAA/NMFS Right Whale Grants Program, Protected Species Branch, Northeast Fisheries Science Center, 166 Water Street, Woods Hole, MA 02543, email rightwhalegrants@noaa.gov.

Federal forms and required elements of the application packages can be obtained from the NMFS Right Whale Grants Program webpage at http://www.nefsc.noaa.gov/psb/grantforms. We cannot accept completed applications via the Internet or facsimile at this time.

FOR FURTHER INFORMATION CONTACT: Dr Phillip J. Clapham, Northeast Fisheries Science Center, 166 Water Street, Woods Hole, MA 02543, 508 495-2316, email rightwhalegrants@noaa.gov.

SUPPLEMENTARY INFORMATION:

I. Introduction

For fiscal year (FY) 2002, Congress directed that $1 million for right whale research be administered through a competitive grants program operated by the Northeast Consortium. For FY 2003 (and in future years if continued), this grant program will be administered by NMFS as the Right Whale Grants Program (hereafter referred to as the RWGP). This document describes how to submit applications for funding in FY 2003 under the RWGP and how we will determine which applications will be funded.

A. Background

Management of marine mammal populations falls within the jurisdiction of the National Marine Fisheries Service (NMFS) under the Marine Mammal Protection Act (MMPA) of 1972 and, for some species, under the Endangered Species Act (ESA) of 1973. The agency is mandated to conserve the endangered species under its jurisdiction, and must undertake actions to prevent further decline of populations, facilitate their recovery, and safeguard the quality of their habitat.

The North Atlantic right whale (Eubalaena glacialis) is among the world's most endangered cetaceans. The population is believed to number only about 300 individuals and appears to be declining. The lack of recovery is due in part to high mortality from human sources, notably fishing gear entanglements and vessel collisions. A Recovery Plan is in effect (NMFS 1991), and conservation of this species is a high priority for NMFS. Research directed at facilitating such conservation or to provide monitoring of the population's status and health, is also a high priority for the agency.

The RWGP is conducted by the Secretary of Commerce to provide Federal assistance to eligible researchers for: (1) detection and tracking of right whales; (2) behavior of right whales in relation to ships; (3) relationships between vessel speed, size or design with whale collisions; (4) modeling of ship traffic along the Atlantic coast; (5) population monitoring and assessment studies; (6) reproduction, health and genetic studies; (7) development of a Geographic Information System database or other system designed to investigate predictive modeling of right whale distribution in relation to environmental variables; (8) habitat quality studies including food quality and pollutant levels; and (9) any other work relevant to the recovery of North Atlantic right whales. The RWGP is administered by the Protected Species Branch of the NOAA/NMFS Northeast Fisheries Science Center in Woods Hole, Massachusetts.

B. Objectives

The principal objectives of the RWGP are to fund research or other activities that can provide information useful to management of North Atlantic right whales, with emphasis on understanding or mitigation of factors inhibiting the species' recovery.

Successful applications will be those that have a high probability of providing novel information that can be used to monitor the status and health of the North Atlantic right whale population, or to improve management strategies aimed at reducing risk from human factors or at otherwise facilitating the population's recovery. Priority will be given to researchers with a demonstrated track record of publishing the results of previous work in the peer-reviewed scientific literature.

C. Funding

This solicitation announces that a maximum of $2.0M may be available for distribution under the 2003 RWGP, in award amounts to be determined by the applications and available funds. There is no guarantee that sufficient funds will be available to make awards for all qualified projects. Publication of this notice does not oblige NOAA to award any specific project or to obligate any available funds. If one incurs any costs prior to receiving any award agreement signed by an authorized NOAA official, one would do so solely at one's own risk of these costs not being included under the award. There is no set minimum or maximum amount for any award.

There is no limit on the number of applications that can be submitted by the same researcher during the 2003 competitive grant cycle. However, there are insufficient funds to award financial assistance to every applicant. Multiple applications submitted must clearly identify different projects and must be successful in the competitive review process.

Other researchers may be identified as Co-Investigators or collaborators on as many RWGP applications as needed so long as the total of all support does not exceed 100 percent of their time. In addition, Department of Commerce may act as collaborators if they are responsible for performing analyses on data collected under a RWGP award. See section I.D. for Eligibility Requirements.

There is no guarantee that sufficient funds will be available to make awards for all qualified projects. Publication of this notice does not oblige NOAA to award any specific project or to obligate any available funds. If an application for a financial assistance award is selected for funding, NOAA/NMFS has no obligation to provide any additional funding in connection with that award in subsequent years. However, multiple-year projects will be considered under the RWGP.

Notwithstanding any verbal or written assurance that applicants have received, pre-award costs are not allowed under the award unless the Grants Officer approves them in accordance with 15 CFR 14.28.

D. Eligibility

Eligible applicants are individuals, institutions of higher education, other nonprofits, commercial organizations, international organizations, foreign governments, organizations under the jurisdiction of foreign governments, and state, local and Indian tribal governments. Federal agencies, or employees of Federal agencies are not eligible to apply.

We support cultural and gender diversity in our programs and encourage eligible women and minority individuals and groups to submit applications. Furthermore, we recognize the interest of the Secretary of Commerce in defining appropriate marine management policies and programs that meet the needs of the U.S. insular areas, so we also encourage applications from eligible individuals, government entities, universities, colleges, and businesses in U.S. insular areas as defined by the Marine Mammal Protection Act (MMPA) (section 3(14), 16 U.S.C. 1362). This includes the Commonwealth of Puerto Rico, the U. S. Virgin Islands, American Samoa, Guam, and the Northern Mariana Islands.

We are strongly committed to broadening the participation of Minority Serving Institutions (MSIs), which include Historically Black Colleges and Universities, Hispanic Serving Institutions, and Tribal Colleges and Universities, in our programs. The DOC/NOAA/NMFS vision, mission, and goals are to achieve full participation by MSIs, to advance the development of human potential, strengthen the Nation's capacity to provide high-quality education, and increase opportunities for MSIs to participate in and benefit from Federal financial assistance programs. Therefore, we encourage all eligible applicants to include meaningful participation of MSIs whenever practicable.

NOAA/NMFS employees (whether full-time, part-time, or intermittent) are not allowed to help in the preparation of applications. NMFS staff are available to provide information regarding statistics on right whales, programmatic goals and objectives, ongoing marine mammal programs, Regional funding priorities, and, along with other Federal Program Officers, can provide information on application procedures and completion of required forms. Since this is a competitive program, NMFS and NOAA employees shall not provide assistance in conceptualizing, developing, or structuring applications, or write letters of support for any application. However, for activities that involve collaboration with current NMFS programs on North Atlantic right whales, employees of NMFS can write a letter verifying that they are collaborating with the project. Federal employee travel and salaries are not allowable costs under this program.

E. Permits and Approvals

It is the applicant's responsibility to obtain all necessary Federal, state, and local government permits and approvals where necessary for the proposed work to be conducted.

Applicants are expected to design their proposals so that they minimize the potential adverse impact on the environment. If applicable, documentation of requests or approvals of environmental permits must be included in the proposal package. These documents will help the NMFS staff determine if the application requires the preparation of an environmental assessment. Applications will be reviewed to ensure that they have sufficient environmental documentation to allow program staff to determine whether the proposal is categorically excluded from further NEPA analysis or whether an environmental assessment is necessary. For those applications needing an environmental assessment, affected applicants will be informed after the peer review stage and will be requested to assist in the preparation of a draft of the assessment (prior to award).

If the proposed research involves intrusive research (50 CFR 216.27(c)(6)) or an approach to within 500 yds of a right whale, the applicant must have submitted a complete MMPA/ESA scientific research and enhancement permit application before funding will be awarded. Intrusive research is defined under 50 CFR 216.3 as a procedure that involves: a break in or cutting of the skin or equivalent, insertion of an instrument or material into an orifice, introduction of a substance or object into the animals= immediate environment that is likely either to be ingested or to contact and directly affect animal tissues (i.e., chemical substances), or a stimulus directed at animals that poses a risk to the health or welfare of the animal or has the potential to impact normal function or behavior (e.g., audio broadcasts directed at animals that potentially affects behavior, brainstem auditory evoked responses, etc.).

If proposed activities will take place within National Marine Sanctuaries, National Parks, National Seashores, and other Federally designated protected areas, it is the applicant's responsibility to request and obtain from the appropriate government agencies any necessary permits or letters of agreement prior to award.

For further information on permit requirements and applications procedures for federal natural resource permits, contact the NMFS Office of Protected Resources or see http:// www.nmfs.noaa.gov/prot_res/PR1/Permits/pr1permits_types.html.

Failure to apply for and/or obtain Federal, state, and local permits, approvals, letters of agreement, or failure to provide environmental analyses where necessary (i.e., NEPA environmental assessment) will also delay the award of funds if a project is otherwise selected for funding.

F. Duration and Terms of Funding

Fiscal year 2003 awards under the RWGP will have a maximum project period of 3 years.

If an applicant wishes to continue work on a project funded through this program beyond the project period and obligated award funds have not been expended by the end of this period, the applicant can notify the assigned Federal Program Officer 30 days prior to the end of the period to determine eligibility for a no-cost extension.

If a application is selected for funding, we have no obligation to provide any additional future funding in connection with that award. Renewal of an award is totally at our discretion.

G. Cost Sharing

Not applicable.

H. Catalog of Federal Domestic Assistance

The RWGP will be listed in the “Catalog of Federal Domestic Assistance” under number 11.472, titled “Unallied Science Programs”. This information should be included on the Application Form, 424, space 10 (see section III, Application Instructions and Requirements, below).

I. Where to Send Applications

All application packages should be sent to NOAA/NMFS Right Whale Grants Program, Protected Species Branch, Northeast Fisheries Science Center, 166 Water Street, Woods Hole, MA 02543, 508 495-2316, email rightwhalegrants@noaa.gov.

J. Electronic Access Addresses

This solicitation, complete application packages (including required Federal forms) with instructions and addresses for submission are available on the NMFS RWGP web page at http:// www.nefsc.noaa.gov/psb/grantforms.

II. Funding Priorities

For this solicitation, all applications must fall within at least one of the 9 following categories: (1) Detection and tracking of right whales; (2) Behavior of right whales in relation to ships; (3) Relationships between vessel speed, size or design with whale collisions; (4) Modeling of ship traffic along the Atlantic coast; (5) Population monitoring and assessment studies; (6) Reproduction, health and genetic studies; (7) Development of a Geographic Information System database or other system designed to investigate predictive modeling of right whale distribution in relation to environmental variables; (8) Habitat quality studies including food quality and pollutant levels; and (9) Any other work relevant to the recovery of North Atlantic right whales.

You must select only one of the 9 categories that best fits your application. Since we recognize that some projects could be designed to meet more than one category, you should determine which category best fits the goals of your proposed project.

The priorities are not listed in any particular order and each is of equal importance. Note that the purpose of the priority list is to guide applicants in application development by identifying those applications that will best compete during this grant cycle for these limited funds, and to provide technical reviewers with guidance for their evaluations. Applications will not be pooled or categorized by NMFS region, although regional funding priorities within NMFS may be a factor in the final ranking of applications.

Details of funding priorities for each of the 9 categories are as follows:

1. Detection and Tracking of Right Whales

Studies, including those involving passive or active acoustic tracking, as well as tagging or other telemetry, which improve knowledge of the distribution and movements of right whales in order to (among other things) better assess risks from ship-strike and fishing gear entanglements.

2. Behavior of Right Whales in Relation to Ships

Investigations of behavior or other biological factors which govern the response of right whales to ships and thus may affect the likelihood that right whales will collide with, or successfully avoid, oncoming vessels. This component may also include experiments to assess the response of right whales to ship-avoidance deterrence methods (e.g. “alarm” stimuli).

3. Relationships Between Vessel Speed, Size or Design with Whale Collisions

Investigations (using modeling or any other means) of how collision risk varies with the speed, size or design of a ship.

4. Modeling or Other Studies of Ship Traffic Along the Atlantic Coast

Investigations which provide novel information on patterns of ship traffic along the Atlantic coast of North America (U.S. and Atlantic Canada), in order to better assess, by area, the risk of collisions between ships and right whales.

5. Population Monitoring and Assessment Studies

Field or modeling studies which provide data or analysis for monitoring/assessment of population size and trend, vital rates, population structure, or distribution.

6. Reproduction, Health and Genetic Studies

Studies of the reproductive biology of right whales, of individual animal health (incorporating physiology, pathology or other methods), or of genetics (including but not limited to genetic diversity, population structure, effective population size, and paternity).

7. Development of a Geographic Information System Database or Other System Designed to Investigate Predictive Modeling of Right Whale Distribution in Relation to Environmental Variables

Studies seeking to correlate right whale distribution and environmental variables in order to reliably predict future aggregations of right whales from remotely sensed (or other) environmental data.

8. Habitat Quality Studies Including Food Quality and Pollutant Levels

Investigations of habitat quality, including abundance and quality of available prey resources, pollutant levels, and interactions of environmental variables with prey resources.

9. Any Other Work Relevant to the Recovery of North Atlantic Right Whales

Studies or other projects on topics not specifically covered in Categories 1-8 above, but which have the potential to contribute important information about North Atlantic right whales or to enhance their recovery.

III. Application Instructions and Requirements

The instructions in this document are designed to help applicants in preparing and submitting a application for Federal funding under the RWGP. All required federal forms, the narrative description of the budget and proposed project, and applicable supporting documentation must be complete and must follow the format described here. One signed original and two signed copies of the complete application package must be submitted. The original application and copies should not be bound in any manner and must be printed on one side only. In addition, applicants may also voluntarily submit an electronic copy (on diskette or CD in Microsoft Word v. 97 or earlier or WordPerfect v. 9 or lower) of the narrative project description. The required unbound original and two copies, and the electronic copy (if the applicant wishes to submit one) must be sent to the address listed in section I.I of this document and postmarked by the submission deadline (see DATES) in order to be considered in the 2003 competition. We are not required to screen applications before the submission deadline, nor do we have to give applicants an opportunity to correct any deficiencies leading to rejection. However, we strongly recommend early submission of applications in the event that we have the resources to pre-screen. Note that there will be no extensions of the deadline for application revisions and that any revised applications must be re-submitted by the original solicitation deadline.

A. Required Federal Forms

Cover Sheets

SF-424 “Application for Federal Assistance” (“Catalog of Federal Domestic Assistance” number is 11.472, and title is “Unallied Science Programs”)

SF-424B “Assurances - Non-Construction Programs” Project Budget

SF-424A “Budget Information - Non-Construction Programs"Certifications and Disclosures

CD-511 “Certification Regarding Debarment, Suspension and Other Responsibility Matters; Drug-Free Workplace Requirements and Lobbying”

SF-LLL “Disclosure of Lobbying Activities” (as required under 15 CFR part 28)

CD-346 “Name Check”

B. Required Federal Forms for Construction Applications

Not applicable.

C. Required Elements of all Project Applications

You must follow the instructions in this document in order to apply for a grant under the RWGP. Your application must be complete and must follow the format described here. Your application must not be bound in any manner and must be printed on one side only. You must submit one signed original and two signed copies of your application. These unbound applications must be sent to the Application Addresses listed in Section I.I of this document by the application deadline (see DATES).

Assistance in filling out required forms and avoiding common problems can be found on the NOAA Grants web site at http:// www.rdc.noaa.gov/grants/index.html. The RWGP web page at http:// www.nefsc.noaa.gov/psb/grantforms has the forms necessary for applying for funds under the RWGP.

A complete application package must include the following elements:

1. Cover Sheet

Office of Management and Budget (OMB) Standard Forms 424 and 424B (4-92) or 424D must be the cover sheets for each application. To complete item 10 of Standard Form 424, the “Catalog of Federal Domestic Assistance” number is 11.472 and the title is “Unallied Science Program”. For item 13 of Standard Form 424, a start date no earlier than 1 September 2003 should be selected.

2. Project Budget

Each application must include clear and concise budget information, both on the required Federal forms, in summary and in narrative detail.

Applications must use OMB standard form 424A, “Budget Information - Non Construction Programs” and associated form instructions.

All instructions should be read before completing the appropriate form. Federal columns on these forms must be filled in completely and separately and the amounts per category and total amounts must correspond with the budget narrative and justification.

On a separate sheet, describe and justify in narrative detail or on a spreadsheet the itemized costs per category and the corresponding direct and indirect cost totals. If the applicant currently has a negotiated indirect cost rate with the Federal Government, an amount for indirect costs can be included in the budget. Indirect costs are overhead costs for basic operational functions (e.g., lights, rent, water, insurance) that are incurred for common or joint objectives and, therefore, cannot be identified specifically within a particular project. Indirect costs can be included in the Federal cost as long as the method of calculation is clear and certain rules are followed. If indirect costs are included, the package should include a copy of the current, approved, negotiated indirect cost agreement with the Federal Government.

We will not consider fees, fund-raising activities, travel for Federal employees, salaries for federal employees, or profits as allowable costs in the proposed budget. The total costs of a project consist of all allowable costs you incur in accomplishing project activities during the project period. A project begins on the effective date of an award agreement between you and the Grants Officer and ends on the date specified in the award. Accordingly, we cannot reimburse applicants for time expended or costs incurred in developing a project or preparing the application, or in any discussions or negotiations with us prior to the award. We will not accept such expenditures as part of your cost share.

3. Title Page

A Title Page must be included for each project. The Title Page must list the project title, project duration (with a start date no earlier than 1 September 2003), applicant name, name of Principal Investigator or Contact, address and phone number of the Principal Investigator or Contact, the RWGP application category under which the project fits (see section II of this document), the project's objective(s), and a statement regarding the total costs of the project.

4. Project Summary

In 6 sentences or less, briefly summarize: project goals and objectives as they relate to the RWGP application categories (i.e., Categories 1 to 9), Program goals; proposed activities; geographic area where activities would occur; and expected outcomes and benefits from the activities of the project. This summary will be posted on our website if the project is funded.

5. Narrative Project Description

The narrative description of the proposed project must not exceed 10 pages (not including curricula vitae, tables or figures, and supplemental documentation) and must be typed in Times New Roman size 12 font and double-spaced. The narrative should demonstrate the applicant's knowledge of the need for the project, and show how the proposed project builds upon any past and current work in the subject area, as well as relevant work in related fields. Applicants should not assume that reviewers already know the relative merits of the project.

The narrative project description must include each of the following elements in the order listed here:

(a) Project goals and objectives (maximum 2 pages). Identify the RWGP goal, listed earlier in this document, to which the project's goals and objective(s) correspond. Identify the problem/opportunity the project intends to address and describe its significance to the understanding and management of North Atlantic right whales. State expected project accomplishments.

(b) Project management (maximum 3 pages, excluding resume and curricula vitae). Describe how the proposed project will be organized and managed (e.g., financial accounting systems to be used and point of contact responsible for managing those systems, etc.).

The lead organization/individual and person listed as the technical contact, should be identified as the Principal Investigator. The Principal Investigator may or may not be the applicant. However, if the applicant is not the Principal Investigator, there must be an explanation of the relationship between the applicant and Principal Investigator (e.g., applicant will be responsible for managing the grant funds and the Principal Investigator will be responsible for completing the project milestones on time and within budget, etc.). One Principal Investigator must be designated on each project. If a Principal Investigator is not identified, we will return the application. Project participants or organizations that will have a significant role in conducting the project should be listed as Co-investigators. Organizations or individuals that support the project, for example, researchers contributing data or materials, should be referred to as Cooperators. Copies of the Principal Investigator's and all Co-investigator's current resumes or curricula vitae must be included in the package's Supporting Documentation section. In addition, the proof of eligibility documents (see II.C.6. Supporting Documentation) provided and listed in the Supporting Documents section of the application must name the Principal Investigator and/or Co-investigator. List any Federal awards the Principal Investigator and Co-investigators have received within the last five years and describe resultant products of such awards. Provide a statement of no more than one page on the qualifications and experience (e.g., resume or curriculum vitae) of consultants and/or subcontractors that are not named as Co-investigators and any Cooperators.

Include copies of agreements between the Principal Investigator and other participants in the project, describing the specific activities each participant would perform. Include copies of any endorsements received from institutions related to this project.

If any portion of the project will be conducted through consultants and/or subcontracts, procurement guidance found in 15 CFR part 24, “Grants and Cooperative Agreements to State and Local Governments,” and 15 CFR part 14, “Uniform Administrative Requirements for Grants and Agreements with Institutions of Higher Education, Hospitals, Other Non-Profit, and Commercial Organizations” must be followed. Describe how provisions for competitive subcontracting will be met if applicable.

(c) Project statement of work (maximum 6 pages). This is a narrative of the work plan that will ensure the proposed project's goals and objectives are met within the proposed award period. It should include detailed descriptions of activities, collaborators, milestones, and expected products resulting from a successfully completed project. The narrative should respond to the following questions:

(1) What specific activities does the project include and how do these activities relate to the project's goals and objectives?

(2) Who will be responsible for carrying out each activity? Highlight activities that will be conducted by Co-investigators or Cooperators, or by sub-contractors, volunteers, and others designated as Co-investigators or Cooperators. For all projects, highlight activities that will be subcontracted. Use of volunteer staff time to complete project activities and oversight of those volunteers should be discussed. The Principal Investigator is responsible for all technical oversight and implementation of the approved work plan as delineated in this Statement of Work.

(3) What are the project milestones? List milestones, describing specific activities and associated time lines necessary to meet them. Describe the time lines in increments (e.g., month 1, month 2, etc.), rather than by specific dates. (d) What are the major outcomes, results, or products expected? Describe expected outcomes, results, or products that will directly relate to the RWGP goals (i.e., under Categories 1-9).

(4) How will outcomes, results, or products be disseminated or shared? Describe how project outcomes, results or products will be disseminated to or shared with researchers, managers and other potential users.

(5) Project impacts (maximum 1 page). Describe the potential impacts of this proposed project on the recovery of North Atlantic right whales. Identify any other potential project impacts.

(6) Project performance evaluation (maximum 1 page). Specify the quantitative and/or qualitative criteria to be used in evaluating the relative success or failure of the project in achieving the stated project goals and objectives.

6. Supporting Documentation

In order to be considered for an award in this funding cycle, the applicant must provide proof of eligibility documents. Applicants requiring MMPA/ESA scientific research and enhancement permits or a Letter of Authorization (LOA) to conduct work on entangled animals, must include evidence they have submitted a complete MMPA/ESA application or a copy of their LOA in this section.

Applicants proposing activities that may require an environmental assessment under NEPA must include sufficient environmental analyses (i.e., permit documentation) to allow program staff to determine whether or not the proposal can be categorically excluded from further NEPA analysis.

Curricula vitae or resumes of the Principals and Co-Investigators and all other required federal forms (i.e., CD-511, SF-LLL, CD-346) must be included here.

Any other relevant documents and additional information that will help us to understand the proposed project and the problem/opportunity the project seeks to address should be included in this section.

Supporting documents will not count as a part of the 10 page limit.

IV. Screening, Review, and Selection Procedures

Screening, review, and selection procedures will take place in 3 steps, described in detail in this section: initial screening, peer review, and final selection by the Selecting Official (i.e., the Science and Research Director, Northeast Fisheries Science Center). The peer review step will involve at least 3 individual reviewers per application. The Selecting Official will make the final decision regarding which applications will be funded based upon evaluations submitted by the peer reviewers as well as policy considerations such as costs, financial need, and duplication with other federally funded projects.

A. Initial Screening

The initial screening will ensure that application packages have all required forms and application elements (listed below and in Section III), clearly relate to the 2003 RWGP, and meet all of the eligibility criteria identified in Section I.D of this document.

Application packages received by the Protected Species Branch, Northeast Fisheries Science Center and postmarked by the submission deadline will be screened to ensure that they: were postmarked by the due date (see DATES); include one original and 2 signed copies of the entire application package; include the correct OMB forms (424, 424A or 424D, and 424B) signed and dated (see section III.A and III.B of this document); identify a Principal Investigator and provide current resumes or curricula vitae for both the Principal and Co-Investigators (see section III.C); identify one of the 9 project categories (see section II); include application package elements 1 through 6 (see section III.C); and include MMPA or ESA permit application cover letters, and other environmental documentation, if applicable. Applications that pass this initial screening will be pooled based on the application category (i.e., Categories 1-9) identified by the applicant.

Our ability to pre-screen is dependent upon the submission deadline and the availability of resources.

B. Peer Review

After initial screening, a team of reviewers will be asked to independently evaluate applications in the reviewers' specific area of expertise for technical soundness and feasibility, and for relevance to the overall goals of the RWGP. The review results will be used to numerically rank the applications and provide comments on the technical aspects and Program relevance of each application.

The Program category and proposed activities of each application will be used in selecting the most appropriate technical reviewers. Reviewers will include private and public sector experts by application category, and will include (but not necessarily be limited to) experts from fields such as marine mammal biology, conservation biology, population biology, reproductive biology, telemetry, modeling, genetics, statistics, marine ecology, oceanography, toxicology, veterinary medicine, pathology, marine affairs, fisheries biology, fisheries management, and marine mammal management. Each technical reviewer will be required to certify that they do not have a conflict of interest concerning the application(s) they are reviewing prior to their review.

To determine the technical soundness and feasibility of each application, and its relevance to the RWGP goals, the reviewers will provide an independent review using the weighted criteria outlined in Section IV.C. below. Each application will be reviewed by at least three reviewers. No consensus advice will be given by the reviewers. On a scale of 0-100, the reviewers will score the application in each criterion. An average, weighted score will be generated from each review using the numeric score per criteria and the weights assigned to each criteria.

C. Review Criteria

1. Soundness of Project Goals, Objectives, and Activities

Applications will be evaluated on clear identification of project goals and objectives and the ability to link those goals and objectives to project activities and the applicability of the project's goals and objectives to the RWGP goals. Reviewers should consider: the likelihood of meeting milestones and achieving anticipated results in the time line specified in the statement of work; the sufficiency of information to evaluate the project technically; if such information is sufficient, the strengths and/or weaknesses of the technical design relative to securing productive results; and if data collection is proposed, the inclusion of quality assurance considerations. the contribution of potential outcomes, results, or products to North Atlantic right whale biology and management; and, the amount of collaboration with other researchers in the right whale field. (Score = 1-50; Weight = 50 percent)

2. Adequacy of Project Management

The management of the project will be evaluated based on documentation of previous related experience and qualifications of the project's Principal Investigator, Co-investigator(s) and other personnel, including designated contractors, consultants, and Cooperators. Consideration will be made to previous awards received by the Principal Investigator and outcomes, results, or products (notably peer-reviewed scientific publications) resulting from such awards. (Score = 1-25; Weight = 25 percent)

3. Identification and Suitability of Project Performance Evaluation Methods

Applications will be scored based on their clear identification of performance evaluation methods and the suitability of those methods for evaluating the success or failure of the project in terms of meeting its original goals and objectives. (Score = 1-10; Weight = 10 percent)

4. Justification, Clarity, and Allocation of Project Costs

The proposed costs and overall budget of the project will be evaluated in terms of the work proposed. The itemized costs and the overall budget must be justified and allocated appropriately. (Score = 1-15; Weight = 15 percent)

Applicants proposing activities that may require an environmental assessment under NEPA must include sufficient environmental analyses to allow program staff to determine whether or not the proposal can be categorically excluded from further NEPA analysis. If insufficient documentation is provided or if proposals cannot be categorically excluded from NEPA review, the applicant will be notified after peer review that further information or an environmental assessment is necessary. Further documentation must be supplied immediately and the environmental assessments must be completed in time prior to the final consideration for funding.

After applications have undergone peer review, NMFS Protected Species staff will summarize panel rankings by averaging the scores and prepare recommendations for funding to the Selecting Official (i.e. the Science and Research Director (SRD), Northeast Fisheries Science Center). Only those applications having an average weighted score higher than 60 points in the peer review will be considered for funding.

In making recommendations to the Selecting Official, NMFS Protected Species staff generally recommend proposals in numerical rank order. They may make recommendations out of numerical rank order based upon a determination that the proposal satisfies one or more of the following factors: the potential value of the work to Program goals, NEPA review, and duplication with other federally funded or permitted projects.

D. Final Selection Procedures

The Selecting Official may reject the recommendation for any proposal selected out of numerical order or accept the recommendation as submitted. If the recommendation is rejected, the Selecting Official will provide a rationale for his/her selection based on the potential value of the work to Program goals, the NEPA review, and duplication with other federally funded or permitted projects. As a result, funding may not necessarily be given to applications which receive the highest rankings in the peer review process.

E. Project Funding

The final, exact amount of funds, the scope of work, and terms and conditions of a successful award will be determined in pre-award negotiations between the applicant and NOAA/NMFS representatives. Applicants should not initiate any project in expectation of Federal funding until they receive a grant award document signed by an authorized NOAA official.

Unsuccessful applications will be held by the Program Office for a period of one year from the date of receipt and then destroyed.

V. Administrative Requirements

The Department of Commerce Pre-Award Notification of Requirements for Grants and Cooperative Agreements is contained in the Federal Register notice of October 1, 2001 (66 FR 49917), as amended by the Federal Register notice published on October 30, 2002 (67 FR 66109), is applicable to this solicitation. The notice advises applicants of their responsibilities as applicants for Federal assistance.

If costs are incurred prior to receiving an award agreement signed by an authorized NOAA official, applicants do so solely at their own risk of not being reimbursed by the Government. Notwithstanding any verbal or written assurance that applicants have received, the Department of Commerce has no obligation to cover pre-award costs.

A. Obligations of Recipients (Successful Applicants)

Applicants awarded a grant for a project must:

1. Manage the day-to-day operations of the project, be responsible for the performance of all activities for which funds are granted, and be responsible for the satisfaction of all administrative and managerial conditions imposed by the award.

2. Keep records sufficient to document any costs incurred under the award, and allow access to these records for audit and examination by the Secretary of Commerce, the Comptroller General of the United States, or their authorized representatives; and, submit financial status reports (SF 269) to NOAA's Grants Management Division in accordance with the award conditions.

3. Submit annual reports, and for projects extending beyond a year, final reports within 90 days after completion of each project, to the individual identified as the NMFS Program Officer in the funding agreement. The final report must describe the project and include an evaluation of the work performed and the results and benefits in sufficient detail to enable us to assess the success of the completed project.

We are committed to using available technology to achieve the timely and wide distribution of final reports to those who would benefit from this information. Therefore, we suggest (but do not require) that applicants submit final reports in electronic format for publication on the NMFS Protected Species Home Page. Should this prove impracticable, applicants must then submit three printed copies of the final report. Awardees can charge the costs associated with preparing and transmitting your final reports to the grant award.

4. In addition to the final report, we require that successful applicants publish the results of their work in a timely fashion in the peer-reviewed scientific literature (except in specific cases where publication is not relevant to the nature of the proposed work). NMFS request that awardees submit any publications printed with award funds (such as manuals, surveys, etc.) to the NMFS Program Officer for dissemination to the public. Publications should be submitted either as three hard copies or in an electronic version.

Classification

Prior notice and an opportunity for public comments are not required by the Administrative Procedure Act (APA) or any other law for this notice concerning grants, benefits, and contracts (5 U.S.C. section 553(a)(2)).

Because notice and comment is not required under the APA, a regulatory flexibility analysis is not required for purposes of the Regulatory Flexibility Act (5 U.S.C. section 601 et seq.

This action has been determined to be not significant for purposes of Executive Order 12866.

Applications under this program are subject to Executive Order 12372, “Intergovernmental Review of Federal Programs.”

Notwithstanding any other provision of law, no person is required to respond to, nor shall any person be subject to a penalty for failure to comply with, a collection of information subject to the requirements of the Paperwork Reduction Act (PRA) unless that collection of information displays a currently valid OMB control number.

This document contains collection-of-information requirements subject to the PRA. The use of Standard Forms 424, 424A, 424B, 424D, 269, SF-LLL, and CD-436 have been approved by OMB under the respective OMB control numbers 0348-0043, 0348-0044, 0348-0040, 0348-0042, 0348-0039, 0348-0046, and 0605-0001.

Dated: April 11, 2003.
Rebecca Lent,
Deputy Assistant Administrator for Regulatory Programs for NOAA Fisheries, National Marine Fisheries Service.

[FR Doc. 03-9491 Filed 4-16-03; 8:45 am]

BILLING CODE 3510-22-S